ENVIRONMENTAL PROTECTION AGENCY

40 CFR Parts 30, 31, 33, 35 and 40

[Docket ID No. OA-2002-0001; FRL-7575-4]

RIN 2020-AA39

Public Hearings on Participation by Disadvantaged Business Enterprises in Procurement Under Environmental Protection Agency Financial Assistance Agreements

AGENCY: Environmental Protection Agency (EPA).

ACTION: Proposed rule; public hearings.

SUMMARY: This document announces the dates and locations of Tribal and other public hearings wherein EPA will take comments on its proposed rule for “Participation by Disadvantaged Business Enterprises in Procurement under Environmental Protection Agency Financial Assistance Agreements,” published on July 24, 2003, at 68 FR 43824. These Tribal and other public hearings will be held during the 180-day public comment period for the proposed rule, which ends on January 20, 2004. EPA will publish information concerning additional Tribal hearings during the comment period when that information becomes available.

DATES: The hearings are scheduled as follows:

1. October 23, 2003, 1:15 p.m. to 3:30 p.m., Temecula, CA

2. October 28, 2003, 9:30 a.m. to 5 p.m., San Juan, PR

3. October 30, 2003, 8:30 a.m. to 5 p.m., St. Thomas, VI

ADDRESSES: The hearings will be held at the following locations:

1. Pechanga Resort and Casino, 45000 Pechanga Parkway, Temecula, California 92592.

2. Inter American University of PR, Central Office of the System, 399 Galileo Street—End, Jardines Metropolitanos, Rio Piedras, San Juan, PR 00927.

3. Ron De Lugo Federal Building, 5500 Veteran's Drive, St. Thomas, VI 00802.

FOR FURTHER INFORMATION CONTACT: Mark Gordon, Attorney Advisor, at (202) 564-5951, Kimberly Patrick, Attorney Advisor, at (202) 564-5386, or David Sutton, Deputy Director, at (202) 564-4444, Office of Small and Disadvantaged Business Utilization, U.S. Environmental Protection Agency, Mail Code 1230A, Ariel Rios Building, 1200 Pennsylvania Avenue, NW., Washington, DC 20460.

SUPPLEMENTARY INFORMATION: EPA published its proposed rule for Participation by Disadvantaged Business Enterprises in Procurement under Environmental Protection Agency (EPA) Financial Assistance Agreements on July 24, 2003 at 68 FR 43824. EPA has established an official public docket for this action under Docket ID No. OA-2002-0001. The proposed rule and supporting materials are available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information is (202) 566-1752. An electronic version of the public docket is available through EPA's electronic public docket and comment systems, EPA Dockets. You may use EPA Dockets at http://www.epa.gov/edocket to submit or view public comments, access the index listing of the contents of the official public docket, and to access those documents in the public docket that are available electronically. Once in the system, select “search,” and then key in docket identification number OA-2002-0001. You may access this Federal Register document electronically through the EPA Internet under the Federal Register listings at http://www.epa.gov/fedrgstr.

Dated: October 10, 2003.
Thomas J. Gibson,
Chief of Staff.

[FR Doc. 03-26190 Filed 10-15-03; 8:45 am]

BILLING CODE 6560-50-P